PENSION BENEFIT GUARANTY CORPORATION

Agency Information Collection Activities: Notice of Intention To Request Extension of OMB Approval of Collection; Comment Request—Termination of Single Employer Plans; Missing Participants; PBGC Forms 500-501, 600-602

AGENCY: Pension Benefit Guaranty Corporation.

ACTION: Notice of intention to request extension of OMB approval.

SUMMARY: The Pension Benefit Guaranty Corporation intends to request that the Office of Management and Budget (“OMB”) extend approval, under the Paperwork Reduction Act of 1995, of a collection of information in its regulations on Termination of Single Employer Plans and Missing Participants, and implementing forms and instructions (OMB control number 1212-0036; expires March 31, 2001). This notice informs the public of the PBGC's intent and solicits public comment on the collection of information.

DATES: Comments should be submitted by November 27, 2000.

ADDRESSES: Comments may be mailed to the Office of the General Counsel, suite 340, Pension Benefit Guaranty Corporation, 1200 K Street, NW., Washington, DC 20005-4026, or delivered to that address between 9 a.m. and 4 p.m. on business days. Written comments will be available for public inspection at the PBGC's Communications and Public Affairs Department, suite 240 at the same address, between 9 a.m. and 4 p.m. on business days. Copies of the forms and instructions may be obtained free of charge from the PBGC's Communications and Public Affairs Department.

FOR FURTHER INFORMATION CONTACT: Catherine B. Klion, Attorney, Office of the General Counsel, PBGC, 1200 K Street, NW., Washington, DC 20005-4026; 202-326-4024. (For TTY/TDD users, call the Federal relay service toll-free at 1-800-877-8339 and ask to be connected to 202-326-4024.)

SUPPLEMENTARY INFORMATION: Under section 4041 of the Employee Retirement Income Security Act of 1974, as amended, a single-employer pension plan may terminate voluntarily only if it satisfies the requirements for either a standard or a distress termination. Pursuant to ERISA section 4041(b), for standard terminations, and section 4041(c), for distress terminations, and the PBGC's termination regulation (29 CFR part 4041), a plan administrator wishing to terminate a plan is required to submit specified information to the PBGC in support of the proposed termination and to provide specified information regarding the proposed termination to third parties (participants, beneficiaries, alternate payees, and employee organizations). In the case of a plan with participants or beneficiaries who cannot be located when their benefits are to be distributed, the plan administrator is subject to the requirements of ERISA section 4050 and the PBGC's missing participants regulation (29 CFR part 4050).

The PBGC estimates that 1,564 plan administrators will be subject to the collection of information requirements in the PBGC's termination and missing participants regulations each year, and that the total annual burden of complying with these requirements is 2,246 hours and $1,864,600. (Much of the work associated with terminating a plan is performed for purposes other than meeting these requirements.)

Comments on these collection of information requirements may address (among other things)—

• Whether the collection of information is necessary for the proper performance of the functions of the PBGC, including whether the information will have practical utility;

• The accuracy of the PBGC's estimate of the burden of the proposed collection of information, including the validity of the methodology and assumptions used;

• Enhancing the quality, utility, and clarity of the information to be collected; and

• Minimizing the burden of the collection of information on those who are to respond, including through the use of appropriate automated, electronic, mechanical, or other technological collection techniques or other forms of information technology, e.g., permitting electronic submission of responses.

Issued in Washington, DC, this 22nd day of September, 2000.
Stuart A. Sirkin,
Director, Corporate Policy and Research Department, Pension Benefit Guaranty Corporation.

[FR Doc. 00-24923 Filed 9-27-00; 8:45 am]

BILLING CODE 7708-01-P